DEPARTMENT OF AGRICULTURE

Forest Service

Wrangell-Petersburg Resource Advisory Committee

AGENCY: Forest Service, USDA.

ACTION: Notice of meeting.

SUMMARY: The Wrangell-Petersburg Resource Advisory Committee (RAC) will meet from 8 a.m. until 5:15 p.m. (or until the conclusion of public testimony) on Friday, January 7, and from 8 a.m. until 9 a.m., Saturday, January 8, 2005, in Wrangell, Alaska. The purpose of this meeting is to review, discuss and potentially recommend for funding proposals received pursuant to Title II, Pub. L. 106-393, H.R. 2389, the Secure Rural Schools and Community Self-Determination Act of 2000, also called the “Payments to States” Act. Public testimony regarding the proposals will also be taken.

DATES: The meeting will be held commencing at 8 a.m. on Friday, January 7, through 9 a.m., Saturday, January 8, 2005.

ADDRESSES: The meeting will be held at the James and Elsie Nolan Center, 1096 Outer Drive, Wrangell, Alaska.

FOR FURTHER INFORMATION CONTACT: Michael Davis, Acting Wrangell District Ranger, P.O. Box 51, Wrangell, AK 99929, phone (907) 874-2323, e-mail michaeldavis@fs.fed.us. or Patty Grantham, Petersburg District Ranger, P.O. Box 1328, Petersburg, AK 99833, phone (907) 772-3871, e-mail pagrantham@fs.fed.us. Toll-free conference calling is available for this meeting; please call or e-mail for specific information. For further information on RAC history, operations, and the application process, a Web site is available at http://www.fs.fed.us/payments. Once in the Web site, follow the links to the Wrangell-Petersburg Resource Advisory Committee.

SUPPLEMENTARY INFORMATION: This meeting will focus on the review and discussion of proposals received by the RAC for funding under Title II of the Payments to States legislation (Pub. L. 106-393), particularly proposals that were of high interest to the committee, but lacked enough information for the committee to act. New information may be introduced concerning these proposals. New proposals (initial reading) may be discussed at this meeting. The committee may make recommendations for project funding at this meeting. A field trip to review proposals proximate to the Wrangell, Alaska, area may take place. The meeting is open to the public. Public input opportunity will be provided and individuals will have the opportunity to address the committee at that time.

Dated: December 27, 2004.
Dennis Neill,
Acting Forest Supervisor.

[FR Doc. 05-113 Filed 1-4-05; 8:45 am]

BILLING CODE 3410-11-M